FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (http://fmcinet/fmc.agreements.web/public) or by contacting the Office of Agreements at (202) 523-5793 or tradeanalysis@fmc.gov.

Agreement No.: 012479.

Title: HSDG/HLAG/CMA CGM WCCA Vessel Sharing Agreement.

Parties: Hamburg Sud and CMA CGM S.A.

Filing Party: Wayne Rohde; Cozen O'Connor; 1200 19th Street NW., Washington, DC 20036.

Synopsis: The agreement authorizes the parties to share vessels in the trade between ports in California on the one hand, and ports in Mexico, Colombia, Costa Rica, El Salvador, Guatemala, and Nicaragua on the other hand.

Agreement No.: 012480.

Title: NYK Bulk & Projects/China Navigation Slot Charter Agreement.

Parties: NYK Bulk & Projects and The China Navigation Co. PTE LTD.

Filing Party: Kristen Chung; NYK Line (North America) Inc.; 300 Lighting Way, 5th Floor; Secaucus, NJ 07094.

Synopsis: The Agreement authorizes NYK to charter space to China Navigation between Suva, Fiji; and Apia, Samoa on the one hand, and Nuku'alofa, Tonga; Apia, Samoa; Pago Pago, American Samoa; and Papeete, French Polynesia on the other hand.

Agreement No.: 201157-007.

Title: USMX-ILA Master Contract between United States Maritime Alliance, Ltd. and International Longshoremen's Association.

Parties: United States Maritime Alliance, Ltd., on behalf of Management, and the International Longshoremen's Association, AFL-CIO.

Filing Parties: William M. Spelman, Esq.; The Lambos Firm; 303 South Broadway, Suite 410; Tarrytown, NY 10591; and Andre Mazzola, Esq.; Marrinan & Mazzola Mardon, P.C.; 26 Broadway, 17th Floor; New York, NY 10004.

Synopsis: The amendment revises the allocation of monies between two funds administered through the USMX-ILA Master Contract—the Carrier-ILA Container Royalty Fund No. 5, and the Carrier-ILA Container Freight Station Trust Fund.

By Order of the Federal Maritime Commission.
Dated: April 7, 2017.
Rachel E. Dickon,
Assistant Secretary.

[FR Doc. 2017-07402 Filed 4-11-17; 8:45 am]

BILLING CODE 6731-AA-P